DEPARTMENT OF COMMERCE

National Oceanic and Atmospheric Administration

[RTID 0648-XF251]

Endangered Species; File No. 29010

AGENCY: National Marine Fisheries Service (NMFS), National Oceanic and Atmospheric Administration (NOAA), Commerce.

ACTION: Notice; receipt of application for a permit modification.

SUMMARY: Notice is hereby given that Caribbean Oceanic Restoration and Education Foundation, 2608 Fish Bay, St. John, VI, 00830 (Responsible Party: Rebecca Gibbel, DVM), has requested a modification to enhancement Permit No. 29010.

DATES: Written comments must be received on or before December 22, 2025.

ADDRESSES: The modification request and related documents are available for review by selecting “Records Open for Public Comment” from the Features box on the Applications and Permits for Protected Species home page, https://apps.nmfs.noaa.gov, and then selecting File No. 29010 mod #2 from the list of available applications. These documents are also available upon written request via email to NMFS.Pr1Comments@noaa.gov.

Written comments on this application should be submitted via email to NMFS.Pr1Comments@noaa.gov. Please include File No. 29010 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject modification to Permit No. 29010, issued on August 19, 2025, (90 FR 46566, September 29, 2025) is requested under the authority of the Endangered Species Act of 1973, as amended (16 U.S.C. 1531 et seq.), and the regulations governing the taking, importing, and exporting of endangered and threatened species (50 CFR parts 222-226).

Permit No. 29010 authorizes the permit holder to conduct response activities for pillar coral in the U.S. Virgin Islands (USVI). The objective of this project is to improve the survival of pillar coral by responding to incidents of damage or threats in the wild. Colonies or fragments would be reattached or stabilized in the same location or at new locations within waters of the USVI. The permit holder requests authorization to increase the number of pillar coral colonies that can be reattached or stabilized from 3 to 10 annually. The permit is valid through August 31, 2035.

Dated: November 17, 2025.
Shannon Bettridge,
Chief, Marine Mammal and Sea Turtle Conservation Division, Office of Protected Resources, National Marine Fisheries Service.

[FR Doc. 2025-20349 Filed 11-19-25; 8:45 am]

BILLING CODE 3510-22-P